NATIONAL FOUNDATION OF THE ARTS AND THE HUMANITIES

Institute of Museum and Library Services

Sunshine Act Meeting of the National Museum and Library Services Board

AGENCY: Institute of Museum and Library Services (IMLS), NFAH.

ACTION: Notice of meeting.

SUMMARY: The National Museum and Library Services Board, which advises the Director of the Institute of Museum and Library Services on general policies with respect to the duties, powers, and authority of the Institute relating to museum, library and information services, will meet on December 7, 2016.

DATES: Wednesday, December 7, 2016, from 2:00 p.m. to 4:00 p.m. EST.

ADDRESSES: The meeting will be held at the IMLS Offices, Panel Room, Suite 4000, 955 L'Enfant Plaza North SW., Washington, DC 20024.

FOR FURTHER INFORMATION CONTACT: Katherine Maas, Program Specialist, Institute of Museum and Library Services, Suite 4000, 955 L'Enfant Plaza North SW., Washington, DC 20024. Telephone: (202) 653-4798. Please provide advance notice of any special needs or accommodations.

SUPPLEMENTARY INFORMATION:

STATUS: The meeting will be open to the public.

AGENDA: Thirty-Fourth Meeting of the National Museum and Library Service Board Meeting:

I. Welcome and Director's Report

II. Approval of Minutes and Office of General Counsel Update

III. Financial and Operations Update

IV. Office of Library Services Update

V. Office of Museum Services Update

VI. Office of Communications and Government Affairs Update

VII. Office of Digital and Information Strategy Update

VIII. Question and Answer Session

IX. Adjourn

Dated: November 17, 2016.
Calvin D. Trowbridge III,
Deputy General Counsel.

[FR Doc. 2016-28223 Filed 11-23-16; 8:45 am]

BILLING CODE 7036-01-M